DEPARTMENT OF COMMERCE

National Oceanic and Atmospheric Administration

[I.D. 061003A]

Fisheries of the Exclusive Economic Zone off Alaska; Groundfish of the Gulf of Alaska; Exempted Fishing Permit

AGENCY: National Marine Fisheries Service (NMFS), National Oceanic and Atmospheric Administration (NOAA), Commerce.

ACTION: Issuance of an Exempted Fishing Permit (EFP).

SUMMARY: NMFS announces the issuance of EFP 03-01 to Mr. John Gauvin, principal investigator, and Mr. Brent Paine, Executive Director of the United Catcher Boats Association (applicants). The EFP authorizes the applicants to conduct an experiment in the Bering Sea that will test the effectiveness of salmon excluder devices to reduce salmon bycatch rates in the pollock trawl fishery without significantly lowering catch rates of pollock. This EFP is necessary to provide information not otherwise available through research or commercial fishing operations. The intended effect of this action is to promote the purposes and policies of the Magnuson-Stevens Fishery Conservation and Management Act (Magnuson-Stevens Act).

ADDRESSES: Copies of the EFP and the Environmental Assessment (EA) prepared for the EFP are available from Lori J. Durall, Alaska Region, NMFS, P.O. Box 21668, Juneau, AK 99802.

FOR FURTHER INFORMATION CONTACT: Melanie Brown, 907-586-7228 or melanie.brown@noaa.gov.

SUPPLEMENTARY INFORMATION: The Fishery Management Plan for the Groundfish Fishery of the Bering Sea and Aleutian Islands Management Area authorizes the issuance of EFPs to fish for groundfish in a manner that would otherwise be prohibited under existing regulations. The procedures for issuing EFPs are set out at 50 CFR 679.6 and 600.745(b).

On April 15, 2003, NMFS announced in the Federal Register the receipt of an application for an EFP (68 FR 18187). The applicants requested authorization to test the effectiveness of salmon excluder devices intended to reduce salmon bycatch rates in the pollock trawl fishery, without reducing the catch of pollock. The purpose of this research is to assist industry in developing gear modifications that will reduce the bycatch of salmon in the pollock fishery in the Bering Sea. This EFP will provide information not otherwise available through research or commercial fishing operations because it is not economically feasible for vessels to participate in an experiment of this extent and rigor during the commercial fisheries.

The Regional Administrator has approved the EFP application and has issued EFP 03-01 to the applicants. Details of the experiment are in the environmental assessment prepared for this action (see ADDRESSES). The experiment will take place in two parts to allow for testing of devices specific to chum salmon and chinook salmon for approximately 12-15 days each. The chum salmon field test portion of the EFP is expected to occur mid-September through October 2003. The chinook salmon excluder test is expected to occur January 20, 2004, through March 31, 2004. The location for the test will be the common areas for catcher vessels to fish for pollock in the Bering Sea at those times of the year.

In order to conduct the test in accordance with the experimental design developed in cooperation with NMFS Alaska Fisheries Science Center, the applicants are exempted from several groundfish fisheries regulations at 50 CFR part 679. Salmon taken during the experiment will not be counted toward the chinook and non-chinook bycatch limits under 50 CFR 679.21(e)(1)(vii) and (viii). The majority of the non-chinook salmon taken is chum salmon. The taking of salmon during the experiment is crucial for determining the effectiveness of the device. The potential exists that the amount of pollock trawl salmon bycatch taken by the industry during the EFP period will approach or exceed the salmon bycatch limits. The additional salmon taken during the experiment would create an additional burden on the pollock trawl industry, if the EFP salmon is counted toward the salmon bycatch limits.

Groundfish taken under the EFP will not be applied to the total allowable catch (TAC) limit specified in the annual harvest specifications (§ 679.20). The amount taken is expected to result in total harvests well below the acceptable biological catch (ABC) amounts for the BSAI. The applicants have also requested an exemption from closures of the Chinook Salmon Savings Area and the Chum Salmon Savings Area. (§§ 679.21(e)(7)(vii) and (viii), and 679.22(a)(10)). The experiment must be conducted in areas of salmon concentration to ensure a sufficient sample size. Known concentrations of salmon occur in the salmon savings areas which provide ideal locations for conducting the experiment and ensuring the vessel encounters concentrations of salmon.

Because a large portion of the Chinook Salmon Savings Area and Chum Salmon Savings Area falls within the Steller Sea Lion Conservation Area (SCA), the EFP also allows for an exemption from the sector specific closure of the SCA (§ 679.22(a)(7)(vii)). This exemption applies only until the combined harvest of all sectors in the SCA exceeds the combined 28 percent of the annual TAC before April 1 (§ 679.20(a)(5)(i)(B). In 2003 nearly 80,000 mt of pollock SCA quota was not harvested. The experiment will harvest approximately 1,300 mt of groundfish (mostly pollock) during the spring. Catcher vessels over 99 ft (30.2 m) length overall (LOA) harvested all of the 2003 quota available to its sector. The vessel used for the research may be a catcher vessel over 99 ft (30.2 m) LOA, the sector that is likely to be closed out of the SCA based on reaching its quota. Because of the large amount of SCA pollock quota that will likely remain unharvested and limitations on the exemption if the combined sector SCA quota is reached, the exemption from the SCA sector specific closure will have no effect on Steller sea lions.

The EFP also exempts the permit holders from the closure of the Catcher Vessel Operating Area (CVOA) at 50 CFR 679.22(a)(5)(ii). All of the Chum Salmon Savings Area is in the CVOA because of the high rates of chum salmon bycatch that are known to occur in this area. The CVOA is closed to catcher/processors during the pollock B season, June 10 through November 1. If a catcher/processor is chosen to conduct the chum salmon portion of the research, it will need access to the CVOA during the pollock B season to ensure enough chum salmon is encountered to provide a sufficient sample size for the experiment.

The EFP authorizes harvests up to 2,270 mt of groundfish in the Bering Sea in the fall of 2003 and the spring of 2004. These groundfish harvests will not be applied toward the groundfish TAC limits in 2003 or 2004. Approximately 98 percent of the groundfish harvested will be pollock. The 2003 Bering Sea pollock TAC is 1,491,760 metric tons (mt) (68 FR 9907, March 3, 2003) and the 2004 TAC is likely to be over one million mt. The 2003 pollock acceptable biological catch (ABC) for the Bering Sea is 2.33 million mt, well above the TAC and additional harvest anticipated from the experiment. The vessel selected for participation will retain all pollock and may retain other groundfish species in accordance with the maximum retainable incidental catch amounts at § 679.20(e) and (f), using only pollock as the basis species.

Approximately 200 chum salmon and 30 chinook salmon are required to support the experiment, well below the BSAI limits of 33,000 chinook salmon in 2003, 29,000 chinook salmon in 2004, and the annual limit of 42,000 non-chinook salmon (§ 679.21(e)(1)(vii) and (viii)). The authorized salmon bycatch for this experiment is 2,183 non-chinook salmon and 217 chinook salmon. This is above the amount needed to support the experiment, but is necessary to ensure the experiment is not prematurely ended before a sufficient amount of data are collected under conditions of higher than expected rates of salmon bycatch. If the salmon is of acceptable quality, the salmon bycatch will be retained for the Prohibited Species Donation Program under § 679.26. Otherwise, the salmon will be discarded in accordance with § 679.21(b).

The Regional Administrator may terminate the experiment if the groundfish or salmon bycatch limits specified in the permit are exceeded. To ensure no likelihood of adverse effects on Steller sea lions, the experiment may not be conducted in Steller sea lion protection areas that are closed to pollock trawling (68 FR 204, January 2, 2003, corrected 68 FR 24615, May 8, 2003), except as provided for in the SCA. A final report of the result of the experiment will be made available to the public at the end of 2004.

Failure of the permittees to comply with the terms and conditions of the EFP and all applicable provisions of 50 CFR parts 600 and 679, the Magnuson-Stevens Act, or any regulations promulgated thereunder, or any other applicable laws, may be grounds for revocation, suspension, or modification of this permit as well as civil or criminal sanctions imposed under those laws.

Classification

This action is exempt from review under Executive Order 12866 and the Regulatory Flexibility Act (RFA). The analytical requirements of the RFA are inapplicable because prior notice and opportunity for public comment are not required for this notification.

Authority: 16 U.S.C. 1801 et seq.

Dated: July 25, 2003.
Bruce C. Morehead,
Acting Director, Office of Sustainable Fisheries, National Marine Fisheries Service.

[FR Doc. 03-19520 Filed 7-30-03; 8:45 am]

BILLING CODE 3510-22-S